DEPARTMENT OF COMMERCE

National Oceanic and Atmospheric Administration

[I.D. 041806E]

Endangered and Threatened Species; Take of Anadromous Fish

AGENCY: National Marine Fisheries Service (NMFS), National Oceanic and Atmospheric Administration, Commerce.

ACTION: Notice; issuance of permit.

SUMMARY: This notice advises the public that a scientific research permit has been issued to the Washington Department of Fish and Wildlife, the Idaho Department of Fish and Wildlife, and the Bureau of Indian Affairs for operation of the adult fish trap at Lower Granite Dam, Washington state, and that the decision documents are available upon request.

DATES: Permit 1530 was issued on February 6, 2006, subject to certain conditions set forth therein, and took effect on March 1, 2006. The permit expires on December 31, 2010.

ADDRESSES: Requests for copies of the decision documents or any of the other associated documents should be directed to the Salmon Recovery Division, NOAA's National Marine Fisheries Service, 1201 NE. Lloyd Blvd., Suite 1100, Portland, OR 97232. The documents are also available on the Internet at http://www.nwr.noaa.gov.

FOR FURTHER INFORMATION CONTACT: Herb Pollard, Boise, ID, at phone number: (208) 378-5614, e-mail: Herbert.Pollard@noaa.gov.

SUPPLEMENTARY INFORMATION: This notice is relevant to the following species:

Chinook salmon (Oncorhynchus tshawytscha): threatened Snake River fall-run evolutionarily significant unit.

Steelhead (Oncorhynchus mykiss): threatened Snake River distinct population segment.

Dated: April 20, 2006.
Susan Pultz,
Acting Chief, Endangered Species Division, Office of Protected Resources, National Marine Fisheries Service.

[FR Doc. E6-6199 Filed 4-24-06; 8:45 am]

BILLING CODE 3510-22-S